DEPARTMENT OF COMMERCE

International Trade Administration

[A-570-896]

Magnesium Metal from the People's Republic of China: Final Results of Antidumping Duty Administrative Review

AGENCY: Import Administration, International Trade Administration, Department of Commerce.

SUMMARY: The Department of Commerce (the “Department”) is conducting an administrative review of the antidumping duty order on magnesium metal from the People's Republic of China (“PRC”) covering the period April 1, 2006, through March 30, 2007. On March 6, 2008, we published our preliminary results. See Magnesium Metal From the People's Republic of China: Preliminary Results of Antidumping Duty Administrative Review, 73 FR 12122 (“Preliminary Results”). We invited interested parties to comment on these preliminary results. Based on our analysis of the comments received, we have made changes to our margin calculations. Therefore, the final results differ from the preliminary results.

EFFECTIVE DATE: July 14, 2008.

FOR FURTHER INFORMATION CONTACT: Karine Gziryan, AD/CVD Operations, Office 4, Import Administration, International Trade Administration, U.S. Department of Commerce, 14th Street and Constitution Avenue, NW, Washington, DC 20230; telephone: (202) 482-4081.

SUPPLEMENTARY INFORMATION:

Background

On March 6, 2008, the Department published its Preliminary Results. The mandatory respondent in this case is Tianjin Magnesium International Co., Ltd., (“TMI”). TMI and the petitioner¹ submitted case briefs on April 7, 2008, and rebuttal briefs on April 14, 2008. In addition, the petitioner and TMI submitted requests for a hearing on April 7, 2008. The hearing was held on May 6, 2008. The Department has conducted this administrative review in accordance with section 751 of the Tariff Act of 1930, as amended (“the Act”).

¹ The petitioner is U.S. Magnesium LLC.

Period of Review

The period of review (“POR”) for this administrative review is April 1, 2006, through March 31, 2007.

Scope of the Order

The product covered by this antidumping duty order is magnesium metal, which includes primary and secondary alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by this antidumping duty order includes blends of primary and secondary magnesium.

The subject merchandise includes the following alloy magnesium metal products made from primary and/or secondary magnesium including, without limitation, magnesium cast into ingots, slabs, rounds, billets, and other shapes, magnesium ground, chipped, crushed, or machined into raspings, granules, turnings, chips, powder, briquettes, and other shapes: products that contain 50 percent or greater, but less than 99.8 percent, magnesium, by weight, and that have been entered into the United States as conforming to an “ASTM Specification for Magnesium Alloy”² and thus are outside the scope of the existing antidumping orders on magnesium from the PRC (generally referred to as “alloy” magnesium).

² The meaning of this term is the same as that used by the American Society for Testing and Materials in its Annual Book of ASTM Standards: Volume 01.02 Aluminum and Magnesium Alloys.

The scope of the antidumping duty order excludes the following merchandise: (1) all forms of pure magnesium, including chemical combinations of magnesium and other material(s) in which the pure magnesium content is 50 percent or greater, but less than 99.8 percent, by weight, that do not conform to an “ASTM Specification for Magnesium Alloy”³ (2) magnesium that is in liquid or molten form; and (3) mixtures containing 90 percent or less magnesium in granular or powder form, by weight, and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.⁴

³ This material is already covered by existing antidumping orders. See Antidumping Duty Orders: Pure Magnesium from the People's Republic of China, the Russian Federation and Ukraine; Amended Final Determination of Sales at Less Than Fair Value: Antidumping Duty Investigation of Pure Magnesium from the Russian Federation, 60 FR 25691 (May 12, 1995), and Antidumping Duty Order: Pure Magnesium in Granular Form from the People's Republic of China, 66 FR 57936 (November 19, 2001).

⁴ This third exclusion for magnesium-based reagent mixtures is based on the exclusion for reagent mixtures in the 2000-2001 investigations of magnesium from the PRC, Israel, and Russia. See Final Determination of Sales at Less Than Fair Value: Pure Magnesium in Granular Form From the People's Republic of China, 66 FR 49345 (September 27, 2001); Final Determination of Sales at Less Than Fair Value: Pure Magnesium From Israel, 66 FR 49349 (September 27, 2001); Final Determination of Sales at Not Less Than Fair Value: Pure Magnesium From the Russian Federation, 66 FR 49347 (September 27, 2001). These mixtures are not magnesium alloys because they are not chemically combined in liquid form and cast into the same ingot.

The merchandise subject to this antidumping duty order is currently classifiable under items 8104.19.00 and 8104.30.00 of the Harmonized Tariff Schedule of the United States (“HTSUS”). Although the HTSUS items are provided for convenience and customs purposes, the written description of the merchandise under investigation is dispositive.

Separate Rates

In proceedings involving non-market economy (“NME”) countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate.

In the Preliminary Results, we found that TMI demonstrated its eligibility for separate-rate status. We received no comments from interested parties regarding the separate rate status of these companies. In these final results of review, we continue to find that the evidence placed on the record of this review by the above-referenced company demonstrates an absence of government control, both in law and in fact, with respect to its exports of the merchandise under review. Thus, we have determined that TMI is eligible to receive a separate rate.

Surrogate Country

In the Preliminary Results, we treated the PRC as a NME country and, therefore, we calculated normal value in accordance with section 773(c) of the Act. Also, we stated that we selected India as the appropriate surrogate country to use in this review for the following reasons: (1) it is a significant producer of merchandise comparable to subject merchandise; and (2) it is at a level of economic development comparable to the PRC, pursuant to section 773(c)(4) of the Act. See Preliminary Results, 73 FR at 12124. No interested party commented on our designation of the PRC as an NME country, nor the selection of India as the surrogate country. Therefore, for the final results of review, we have continued to treat the PRC as an NME country and have used the same surrogate country, India, for these final results.

Analysis of Comments Received

All issues raised in the post-preliminary comments by parties in this review are addressed in the memorandum from Stephen J. Claeys, Deputy Assistant Secretary for Import Administration, to David M. Spooner, Assistant Secretary for Import Administration, “Issues and Decision Memorandum for the Final Results of Magnesium Metal from the People's Republic of China,” dated July 7, 2008 (“Issues and Decision Memorandum”), which is hereby adopted by this notice. A list of the issues that parties raised and to which we responded in the Issues and Decision Memorandum is attached to this notice as an appendix. The Issues and Decision Memorandum is a public document and is on file in the Central Records Unit (“CRU”) in room 1117 in the main Commerce Department building, and is also accessible on the Web at http://ia.ita.doc.gov/frn. The paper copy and electronic version of the memorandum are identical in content.

Changes Since the Preliminary Results

Based on our analysis of comments received, we have made the following changes in the margin calculations for TMI: (1) To value the pure magnesium scrap input we used import values from the Indian Import Statistics (World Trade Atlas ® online), which were published by the Directorate General of Commercial Intelligence and Statistics, Ministry of Commerce of India, for pure magnesium listed under HTS 8104.11, (2) To value factory overhead, depreciation, selling, general and administrative expenses (“SG&A”) and profit, the Department used audited financial statements for the year ended March 31, 2007, for an Indian producer of aluminum, Madras Aluminum Company Limited (“Malco”), (3) To value three components of flux: magnesium chloride, sodium chloride and potassium chloride, we used an average Indian domestic price based on April 2006-March 2007 data contained in Chemical Weekly, (4) For direct labor, indirect labor, and packing labor, consistent with 19 CFR 351.408(c)(3), the Department used the PRC regression-based wage rate as reported on Import Administration's website, Import Library, Expected Wages of Selected NME Countries, revised in May 2008, http://ia.ita.doc.gov/wages/04wages/04wages-010907.html. The source of these wage-rate data is the Yearbook of Labor Statistics 2006, ILO (Geneva: 2006), Chapter 5B Wages in Manufacturing. The years of the reported wage rates range from 2004 to 2005. Because this regression-based wage rate does not separate the labor rates into different skill levels or types of labor, the Department has applied the same wage rate to all skill levels and types of labor reported by the respondents. See Factor Valuation Memorandum.

Final Results of the Review

The Department has determined that the following weighted-average dumping margin exists for TMI for the period April 1, 2006, through March 31, 2007:

Magnesium Metal from the PRC
Exporter | Weighted-Average Margin (Percent)
Tianjin Magnesium International Co., Ltd. | 0.00

Assessment Rates

The Department intends to issue assessment instructions to U.S. Customs and Border Protection (“CBP”) 15 days after the date of publication of these final results of review. In accordance with 19 CFR 351.212(b)(1), we have calculated importer or customer-specific assessment rates for merchandise subject to this review.

Cash Deposit Requirements

The following cash deposit requirements will be effective upon publication of the final results of the administrative review for shipments of the subject merchandise entered, or withdrawn from warehouse, for consumption on or after the publication date of the final results, as provided by section 751(a)(2)(C) of the Act: (1) for subject merchandise exported by TMI no cash deposit will be required; (2) for previously reviewed or investigated companies not listed above that have separate rates, the cash-deposit rate will continue to be the company-specific rate published for the most recent period; (3) for all other PRC exporters of subject merchandise, which have not been found to be entitled to a separate rate, the cash-deposit rate will be PRC-wide entity rate of 141.49 percent; (4) for all non-PRC exporters of subject merchandise that have not received their own rate, the cash-deposit rate will be the rate applicable to the PRC exporter that supplied that exporter. These deposit requirements, when imposed, shall remain in effect until further notice.

Notification to Importers

This notice also serves as a final reminder to importers of their responsibility under

19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This administrative review and this notice are in accordance with sections 751(a)(1) and

777(i) of the Act, 19 CFR 351.213, and 19 CFR 351.221(b)(4).

Dated: July 7, 2008.
David M. Spooner,
Assistant Secretary for Import Administration.

APPENDIX

List of Comments and Issues in the Issues and Decision Memorandum

Comment 1: Whether the Department should assign a combination rate to TMI

Comment 2: Whether the Department should value the pure magnesium scrap input using the surrogate value for pure magnesium

Comment 3: Which Indian companies should be used to calculate the surrogate financial ratios

Comment 4: Whether to use Indian import statistics from World Trade Atlas or domestic prices from Chemical Weekly to value flux

Comment 5: Whether to use the data from India Bureau of Mines Yearbook to value Steam Coal

Comment 6: Whether the Department should use the updated China Wage rate

[FR Doc. E8-15964 Filed 7-11-08; 8:45 am]

BILLING CODE 3510-DS-S